DEPARTMENT OF DEFENSE

Office of the Secretary

Meeting of the Department of Defense Military Family Readiness Council; Cancellation

AGENCY: Office of the Under Secretary of Defense for Personnel and Readiness, Department of Defense.

ACTION: Notice of cancellation.

SUMMARY: On July 18, 2012 (77 FR 42297), the Department of Defense Military Family Readiness Council (MFRC) announced a meeting to be held on Tuesday, August 15, 2012, from 2:00 p.m. to 4:00 p.m. at Pentagon Conference Center B6.

Pursuant to Section 10(a), Public Law 92-463, as amended, the Department of Defense announces that this meeting is cancelled due to the MFRC membership and charter not being approved in time for the August 15 meeting. The purpose of the Council meeting was to review the military family programs which will be the focus for the Council for this year, review the status of warrior care, and address selected concerns of military family organizations. Information on a subsequent meeting will appear in a future notice.

FOR FURTHER INFORMATION CONTACT: Ms. Melody McDonald or Ms. Betsy Graham, Office of the Deputy Under Secretary (Military Community & Family Policy), 4800 Mark Center Drive, Alexandria, VA 22350-2300, Room 3G15. Telephones (571) 372-0880; (571) 372-0881 and/or email: FamilyReadinessCouncil@osd.mil.

Dated: July 30, 2012.
Aaron Siegel,
Alternate OSD Federal Register Liaison Officer, Department of Defense.

[FR Doc. 2012-18961 Filed 8-2-12; 8:45 am]

BILLING CODE 5001-06-P